DEPARTMENT OF COMMERCE

International Trade Administration

[C-489-834]

Large Diameter Welded Pipe From the Republic of Türkiye: Final Results of Countervailing Duty Administrative Review; 2022

AGENCY: Enforcement and Compliance, International Trade Administration, Department of Commerce.

SUMMARY: The U.S. Department of Commerce (Commerce) determines countervailable subsidies were provided to producers and exporters of large diameter welded pipe (welded pipe) from the Republic of Türkiye (Türkiye) during the period of review (POR) January 1, 2022, through December 31, 2022.

DATES: Applicable October 18, 2024.

FOR FURTHER INFORMATION CONTACT: Ajay K. Menon, AD/CVD Operations, Office IX, Enforcement and Compliance, International Trade Administration, U.S. Department of Commerce, 1401 Constitution Avenue NW, Washington, DC 20230; telephone: (202) 482-0208.

SUPPLEMENTARY INFORMATION:

Background

On June 6, 2024, Commerce published the Preliminary Results of this administrative review.¹ On July 22, 2024, Commerce tolled certain deadlines in this administrative proceeding by seven days.² The deadline for the final results is now October 11, 2024. For a description of the events that occurred since the Preliminary Results, see the Issues and Decision Memorandum.³

¹ See Large Diameter Welded Pipe from the Republic of Türkiye: Preliminary Results and Rescission, in Part, of Countervailing Duty Administrative Review; 2022, 89 FR 48379 (June 6, 2024) (Preliminary Results), and accompanying Preliminary Decision Memorandum (PDM).

² See Memorandum, “Tolling of Deadlines for Antidumping and Countervailing Duty Proceedings,” dated July 22, 2024.

³ See Memorandum, “Issues and Decision Memorandum for the Final Results of the 2022 Countervailing Duty Administrative Review of Large Diameter Welded Pipe from the Republic of Türkiye,” dated concurrently with, and hereby adopted by, this notice (Issues and Decision Memorandum).

Scope of the Order ⁴

⁴ See Large Diameter Welded Pipe from the Republic of Turkey: Countervailing Duty Order, 84 FR 18771 (May 2,

2019) (Order).

The merchandise covered by this Order is welded pipe from Türkiye. For a complete description of the scope of this Order, see the Issues and Decision Memorandum.

Analysis of Comments Received

All issues raised in HDM Çelik Boru Sanayi Ve Ticaret A.S.'s (HDM Celik's) case brief are addressed in the Issues and Decision Memorandum accompanying this notice. A list of the issues addressed is attached as an appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Methodology

Commerce conducted this review in accordance with section 751(a)(1)(A) of the Act. For each of the subsidy programs found countervailable, we find that there is a subsidy, i.e., a government-provided financial contribution that gives rise to a benefit to the recipient, and that the subsidy is specific.⁵ For a description of the methodology underlying all of Commerce's conclusions, see the Issues and Decision Memorandum.

⁵ See sections 771(5)(B) and (D) of the Act regarding financial contribution; section 771(5)(E) of the Act regarding benefit; and section 771(5A) of the Act regarding specificity.

Final Results of Review

We determine that, for the period January 1, 2022, through December 31, 2022, the following total net countervailable subsidy rates exist:

Producer/exporter | Subsidy rate (percent ad valorem)
Çimtaş Boru Imalatari Ticaret Ltd | 2.18
HDM Çelik Boru Sanayi Ve Ticaret A.S.⁶ | 6.31

Disclosure

⁶ Commerce initiated this review on both HDM Çelik and HDM Spiral Kaynakli Celik Boru A.S. (HDM Spiral). See Initiation Notice, 88 FR at 44273. However, in the LTFV investigation, we found that HDM Çelik acquired HDM Spiral on October 31, 2017, and HDM Spiral ceased to exist. See Large Diameter Welded Pipe from the Republic of Turkey: Preliminary Determination of Sales at Less Than Fair Value and Postponement of Final Determination, 83 FR 43646, 43647 (August 27, 2018), unchanged in Large Diameter Welded Pipe from the Republic of Turkey: Final Determination of Sales at Less Than Fair Value, 84 FR 6362 (February 27, 2019).

Normally, Commerce discloses to interested parties the calculations performed in connection with the final results of review within five days of public announcement or, if there is no public announcement, within five days of the date of publication of the notice of final results in the Federal Register, in accordance with 19 CFR 351.224(b). However, because we did not make any changes to the calculations in the Preliminary Results, there are no calculations to disclose.

Assessment Rate

Pursuant to section 751(a)(2)(C) of the Act and 19 CFR 351.212(b)(2), Commerce has determined, and U.S. Customs and Border Protection (CBP) shall assess, countervailing duties on all appropriate entries of subject merchandise in accordance with the final results of this review, for the above-listed companies at the applicable ad valorem assessment rates listed. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Rates

In accordance with section 751(a)(1) of the Act, Commerce intends to instruct CBP to collect cash deposits of estimated countervailing duties in the amounts shown for the companies listed above for shipments of the subject merchandise entered, or withdrawn from warehouse for consumption on or after the date of publication of the final results of this administrative review. For all non-reviewed firms, we will instruct CBP to continue to collect cash deposits of estimated countervailing duties at the most recent company-specific or all-others rate applicable to the company, as appropriate. These cash deposits, effective upon the publication of the final results of this review, shall remain in effect until further notice.

Administrative Protective Order

This notice also serves as a final reminder to parties subject to administrative protective order (APO) of their responsibility concerning the return or destruction of proprietary information disclosed under APO in accordance with 19 CFR 351.305(a)(3). Timely written notification of the return/destruction of APO materials or conversion to judicial protective order is hereby requested. Failure to comply with the regulations and terms of an APO is a sanctionable violation.

Notification to Interested Parties

These final results are issued and published in accordance with sections 751(a)(1) and 777(i)(1) of the Act, and 19 CFR 351.221(b)(5).

Dated: October 10, 2024.
Scot Fullerton,
Acting Assistant Secretary for Enforcement and Compliance.

Appendix

List of Topics Discussed in the Issues and Decision Memorandum

I. Summary

II. Background

III. Scope of the Order

IV. Subsidies Valuation

V. Analysis of Programs

VI. Discussion of the Issues

Comment 1: Whether Commerce Should Revise HDM Çelik's Sales Denominator

Comment 2: Whether Commerce Should Revise its Calculation of the Benefit for the Rediscount Program for HDM Celik

Comment 3: Whether Commerce Should Revise its Calculation of the Benefit for the Hot-Rolled Steel (HRS) for Less Than Adequate Remuneration (LTAR) Program for HDM Celik

VII. Recommendation

[FR Doc. 2024-24090 Filed 10-17-24; 8:45 am]

BILLING CODE 3510-DS-P